DEPARTMENT OF TRANSPORTATION

Federal Aviation Administration

Notice of Intent To Request Revision From the Office of Management and Budget of a Currently Approved Information Collection Activity, Request for Comments; Aviation Maintenance Technical Schools

AGENCY: Federal Aviation Administration (FAA), DOT.

ACTION: Notice and request for comments.

SUMMARY: The FAA invites public comments about our intention to request the Office of Management and Budget (OMB) to approve a current information collection. The information collected is needed to determine applicant eligibility and compliance for certification of civil aviation mechanic and operation of aviation mechanic school.

DATES: Please submit comments by December 28, 2007.

FOR FURTHER INFORMATION CONTACT: Carla Mauney on (202) 267-9895, or by e-mail at: Carla.Mauney@faa.gov.

SUPPLEMENTARY INFORMATION:

Federal Aviation Administration (FAA)

Title: Aviation Maintenance Technical Schools.

Type of Request: Revision of an approved collection.

OMB Control Number: 2120-0040.

Form(s): FAA Form 8310-6.

Affected Public: A total of 174 respondents.

Frequency: The information is collected on occasion.

Estimated Average Burden per Response: Approximately 380 hours per response.

Estimated Annual Burden Hours: An estimated 66,134 annually.

Abstract: The information collected is needed to determine applicant eligibility and compliance for certification of civil aviation mechanic and operation of aviation mechanic school.

ADDRESSES: Send comments to the FAA at the following address: Ms. Carla Mauney, Room 712, Federal Aviation Administration, IT Enterprises Business Services Division, AES-200, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on October 23, 2007.
Carla Mauney,
FAA Information Collection Clearance Officer, IT Enterprise Business Services Division, AES-200.

[FR Doc. 07-5356 Filed 10-26-07; 8:45 am]

BILLING CODE 4910-13-M